ENVIRONMENTAL PROTECTION AGENCY

[FRL-9907-84-Region-10]

Final Modification of the National Pollutant Discharge Elimination System (NPDES) General Permit (GP) for Small Suction Dredges in Idaho, IDG370000

AGENCY: Environmental Protection Agency (EPA).

ACTION: Final notice of modification of a general permit.

SUMMARY: When the 2013 General Permit (GP) was issued, the language of the GP contained a discrepancy with the total maximum daily load (TMDL) that was issued for Mores Creek. The Environmental Protection Agency (EPA) proposed to modify the permit on December 18, 2013, and provided a 45 day comment period. EPA prepared a Response to Comments and modified the GP so it now includes the tributaries of Mores, Elk or Grimes creeks in the loading allocations of the TMDL and a list of these tributaries in Appendix F.

DATES: The modified GP will be effective on April 14, 2014.

ADDRESSES: Copies of the modified general permit, Statement of Basis and Response to Comments are available upon request. Requests may be made to Tracy DeGering at (208) 378-5756 or to Cindi Godsey at (907) 271-6561. Requests may also be electronically mailed to: degering.tracy@epa.gov or godsey.cindi@epa.gov.

Written requests may be submitted to EPA, Region 10, 1200 Sixth Avenue, Suite 900, OWW-130, Seattle, WA 98101.

FOR FURTHER INFORMATION CONTACT: The GP, Statement of Basis and Response to Comments along with detailed maps and other useful information may be found on the Region 10 Web site at: http://yosemite.epa.gov/r10/water.nsf/npdes+permits/idsuction-gp.

SUPPLEMENTARY INFORMATION: Executive Order 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that these general permits, as issued, will not have a significant economic impact on a substantial number of small entities.

Dated: March 5, 2014.
Daniel D. Opalski,
Director, Office of Water & Watersheds, Region 10, U.S. Environmental Protection Agency.

[FR Doc. 2014-05724 Filed 3-13-14; 8:45 am]

BILLING CODE 6560-50-P